OFFICE OF PERSONNEL MANAGEMENT

5 CFR Part 532

RIN 3206-AL83

Prevailing Rate Systems; Redefinition of the New Haven-Hartford and New London, CT, Appropriated Fund Federal Wage System Wage Areas

AGENCY: U.S. Office of Personnel Management.

ACTION: Proposed rule with request for comments.

SUMMARY: The U.S. Office of Personnel Management (OPM) is issuing a proposed rule that would define the New Haven-Hartford and New London, CT, appropriated fund Federal Wage System (FWS) wage areas by county rather than by city and town boundaries. Defining the New England FWS wage areas by primarily considering county boundaries would provide greater consistency in how OPM defines FWS wage areas and would improve the ability to make direct data comparisons with Census Bureau data. The proposed rule would define the New Haven-Hartford wage area to include Hartford and New Haven Counties, CT, as the survey area and Fairfield, Litchfield, Middlesex, and Tolland Counties, CT, as the area of application and the New London wage area to include New London County, CT, as the survey area and Windham County, CT, as the area of application.

DATES: We must receive comments on or before April 23, 2009.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is engaged in an ongoing project to review the geographic definitions of Federal Wage System (FWS) wage areas. OPM considers the following regulatory criteria under 5 CFR 532.211 when defining FWS wage area boundaries:

(i) Distance, transportation facilities, and geographic features;

(ii) Commuting patterns; and

(iii) Similarities in overall population, employment, and the kinds and sizes of private industrial establishments.

FWS wage areas in New England differ from the majority of FWS wage areas in that they are geographically defined according to the boundaries of cities and towns rather than by the boundaries of counties. Under its methodology for defining metropolitan areas, the Office of Management and Budget (OMB) uses counties rather than cities and towns as the primary geographic entities for defining metropolitan areas in New England. OMB uses cities and towns in New England to define a secondary set of metropolitan areas. Because OMB considers its county-based metropolitan areas the primary set of metropolitan areas for New England, we propose to primarily apply the county-based metropolitan area definitions to FWS wage area boundaries. Defining the New England FWS wage areas by primarily considering county boundaries will provide greater consistency in how the OPM defines FWS wage areas and will improve the ability to make direct data comparisons with Census Bureau data. For example, some statistical programs, such as the Census Bureau's County Business Patterns, provide data by counties.

OPM recently completed reviews of the definitions of the New Haven-Hartford and New London, CT, wage areas and, based on analyses of the regulatory criteria for defining wage areas, is proposing the changes described below.

New Haven-Hartford, CT

This proposed rule would define the New Haven-Hartford, CT, appropriated fund FWS wage area by county rather than by city and town boundaries. The proposed rule would define the New Haven-Hartford wage area to include Hartford and New Haven Counties, CT, as the survey area and Fairfield, Litchfield, Middlesex, and Tolland Counties, CT, as the area of application.

The New Haven-Hartford survey area currently includes 1 town of Fairfield County, 15 towns of Hartford County, 2 towns of Middlesex County, and 11 towns of New Haven County. We propose that the New Haven-Hartford survey area be changed to include all of Hartford and New Haven Counties. The survey area would be conveniently located in the central part of the wage area and would closely reflect the prevailing rates paid by businesses in the wage area. Stratford town in Fairfield County and Cromwell and Middlefield towns in Middlesex County, currently part of the New Haven-Hartford survey area, would be redefined to the New Haven-Hartford area of application.

Hartford, Middlesex, and Tolland Counties comprise the Hartford-West Hartford-East Hartford, CT Metropolitan Statistical Area (MSA). Old Saybrook town in Middlesex County is part of the current New London wage area. Somers and Somersville towns in Tolland County are part of the current Central and Western Massachusetts wage area. OPM regulations at 5 CFR 532.211 do not permit splitting MSAs for the purpose of defining a wage area, except in very unusual circumstances (e.g., organizational relationships among closely located Federal activities). OPM proposes to redefine Old Saybrook town in Middlesex County and Somers and Somersville towns in Tolland County to the New Haven-Hartford area of application so that the entire Hartford-West Hartford-East Hartford, CT MSA is in one wage area. No FWS employees currently work in Middlesex or Tolland Counties. With these changes, the New Haven-Hartford area of application would include all of Fairfield, Litchfield, Middlesex, and Tolland Counties.

These changes would be effective for the full-scale wage survey in the New Haven-Hartford wage area scheduled to begin in April 2011.

New London, CT

This proposed rule would define the New London, CT, appropriated fund FWS wage area by county rather than by city and town boundaries. The proposed rule would define the New London wage area to include New London County, CT, as the survey area and Windham County, CT, as the area of application.

The New London survey area currently includes 28 towns of New London County, CT, 1 town of Middlesex County, CT, and 2 towns of Washington County, RI. We propose that the New London survey area be changed to include all of New London County.

OPM regulations at 5 CFR 532.211 do not permit splitting Metropolitan Statistical Areas (MSAs) for the purpose of defining a wage area, except in very unusual circumstances (e.g., organizational relationships among closely located Federal activities). OPM proposes to redefine Old Saybrook town in Middlesex County, currently part of the New London survey area, to the New Haven-Hartford area of application so the entire Hartford-West Hartford-East Hartford, CT MSA is in one wage area. No FWS employees currently work in Middlesex County. OPM proposes to redefine Hopkinton and Westerly towns in Washington County, currently part of the New London survey area, to the Narragansett Bay, RI, area of application so the entire Providence-New Bedford-Fall River, RI-MA MSA is in one wage area. No FWS employees currently work in Hopkinton and Westerly towns.

These changes would be effective for the full-scale wage survey in the New London wage area scheduled to begin in September 2010.

The Federal Prevailing Rate Advisory Committee (FPRAC), the national labor-management committee that advises OPM on FWS pay matters, reviewed and recommended these changes by consensus. Based on its review of the regulatory criteria for defining FWS wage areas, FPRAC recommended no other changes in the geographic definitions of the New Haven-Hartford and New London wage areas.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Kathie Ann Whipple,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of Connecticut is amended by revising the listings for New Haven-Hartford and New London; for the State of Massachusetts, by revising the listing for Central and Western Massachusetts; and for the State of Rhode Island, by revising the listing for Narragansett Bay, to read as follows:

Appendix C to Subpart B of Part 532—Appropriated Fund Wage and Survey Areas

* * * * *

CONNECTICUT
New Haven-Hartford
Survey Area
Connecticut:
Hartford
New Haven
Area of Application. Survey area plus:
Connecticut:
Fairfield
Litchfield
Middlesex
Tolland
New London
Survey Area
Connecticut:
New London
Area of Application. Survey area plus:
Connecticut:
Windham
* * * * *
MASSACHUSETTS
* * * * *
Central and Western Massachusetts
Survey Area
Massachusetts:
The following cities and towns in:
Hampden County
Agawam
Chicopee
East Longmeadow
Feeding Hills
Hampden
Holyoke
Longmeadow
Ludlow
Monson
Palmer
Southwick
Springfield
Three Rivers
Westfield
West Springfield
Wilbraham
Hampshire County
Easthampton
Granby
Hadley
Northampton
South Hadley
Worcester County
Warren
West Warren
Area of Application. Survey area plus:
Massachusetts:
Berkshire
Franklin
Worcester (except Blackstone and Millville)
The following cities and towns in:
Hampshire County
Amherst
Belchertown
Chesterfield
Cummington
Goshen
Hatfield
Huntington
Middlefield
Pelham
Plainfield
Southampton
Ware
Westhampton
Williamsburg
Worthington
Hampden County
Blandford
Brimfield
Chester
Granville
Holland
Montgomery
Russell
Tolland
Wales
Middlesex County
Ashby
Shirley
Townsend
New Hampshire:
Belknap
Carroll
Cheshire
Grafton
Hillsborough
Merrimack
Sullivan
Vermont:
Addison
Bennington
Caledonia
Essex
Lamoille
Orange
Orleans
Rutland
Washington
Windham
Windsor
* * * * *
RHODE ISLAND
Narragansett Bay
Survey Area
Rhode Island:
Bristol
Newport
The following cities and towns:
Kent County
Anthony
Coventry
East Greenwich
Greene
Warwick
West Warwick
Providence County
Ashton
Burrillville
Central Falls
Cranston
Cumberland
Cumberland Hill
East Providence
Esmond
Forestdale
Greenville
Harrisville
Johnston
Lincoln
Manville
Mapleville
North Providence
North Smithfield
Oakland
Pascoag
Pawtucket
Providence
Saylesville
Slatersville
Smithfield
Valley Falls
Wallum Lake
Woonsocket
Washington County
Davisville
Galilee
Lafayette
Narragansett
North Kingstown
Point Judith
Quonset Point
Saunderstown
Slocum
Massachusetts:
The following cities and towns:
Bristol County
Attleboro
Fall River
North Attleboro
Rehoboth
Seekonk
Somerset
Swansea
Westport
Norfolk County
Caryville
Plainville
South Bellingham
Worcester County
Blackstone
Millville
Area of Application. Survey area plus:
Rhode Island:
The following cities and towns in:
Kent County
West Greenwich
Providence County
Foster
Glocester
Scituate
Washington County
Charlestown
Exeter
Hopkinton
New Shoreham
Richmond
South Kingstown
Westerly
Massachusetts:
The following cities and towns in:
Bristol County
Acushnet
Berkley
Dartmouth
Dighton
Fairhaven
Freetown
Mansfield
New Bedford
Norton
Raynham
Taunton
* * * * *

[FR Doc. E9-6364 Filed 3-23-09; 8:45 am]

BILLING CODE 6325-39-P